DEPARTMENT OF TRANSPORTATION

Surface Transportation Board

[STB Finance Docket No. 35134]

Squaw Creek Southern Railroad, Inc.—Lease and Operation Exemption—Central of Georgia Railroad Company

Squaw Creek Southern Railroad, Inc. (SCS), a Class III rail carrier, has filed a verified notice of exemption under 49 CFR 1150.41 to lease and operate, pursuant to a lease agreement (Lease) reached with Central of Georgia Railroad Company (CGA), a wholly owned subsidiary of Norfolk Southern Railway Company (NSR), approximately 21.75 miles of rail line currently owned and operated by CGA, which is located between milepost F-53.75 at Machen, Jasper County, GA, and milepost F-75.5 at Madison, Morgan County, GA.

As a result of this transaction, the subject line will connect with CGA, CSX Transportation, Inc., and The Great Walton Railroad Company, Inc. According to SCS, the Lease specifically provides that there is no restriction on SCS's ability to interchange traffic with a connecting carrier other than CGA or NSR, but SCS explains that, under the Lease, it will receive rental credits and handling fees from CGA and NSR for cars interchanged with CGA.

The transaction is scheduled to become effective on June 1, 2008. The earliest this transaction can be consummated is May 30, 2008, the effective date of the exemption (30 days after the exemption is filed).

SCS certifies that its projected annual revenues as a result of this transaction will not exceed those that qualify it as a Class III rail carrier and will not exceed $5 million.

Pursuant to the Consolidated Appropriations Act, 2008, Pub. L. 110-161, § 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions to stay must be filed by no later than May 23, 2008 (at least 7 days before the exemption becomes effective).

An original and 10 copies of all pleadings, referring to STB Finance Docket No. 35134 must be filed with the Surface Transportation Board, 395 E Street, SW., Washington, DC 20423-0001. In addition, a copy must be served on Andrew P. Goldstein or John M. Cutler, Jr., McCarthy, Sweeney and Harkaway, P.C., 2175 K Street, NW., Suite 600, Washington, DC 20037.

Board decisions and notices are available on our Web site at http://www.stb.dot.gov.

Decided: May 12, 2008.
By the Board, David M. Konschnik, Director, Office of Proceedings.
Anne K. Quinlan,
Acting Secretary.

[FR Doc. E8-11002 Filed 5-15-08; 8:45 am]

BILLING CODE 4915-01-P